ENVIRONMENTAL PROTECTION AGENCY

[FRL-7017-1]

Proposed CERCLA Prospective Purchaser Agreement; Twin City Casting Site, 750 Pelham Boulevard, City of Saint Paul, Ramsey County, MN

AGENCY: Environmental Protection Agency.

ACTION: Notice; request for public comment.

SUMMARY: In accordance with the Comprehensive Environmental Response, Compensation, and Liability Act, as amended (“CERCLA”), 42 U.S.C. 9601, et seq., and the authority of the Attorney General of the United States to compromise and settle claims of the United States as delegated, notice is hereby given of a proposed prospective purchaser agreement concerning the Twin City Casting Site, 750 Pelham Boulevard, City of Saint Paul, Ramsey County, Minnesota. The agreement requires the Housing and Redevelopment Authority of the City of Saint Paul (“HRA”) and the 2356 University Avenue limited Partnership (“Limited Partnership”) to pay $7,500.00 to the Hazardous Substance Superfund; and the Limited Partnership to complete cleanup work at the Site outlined in a response action plan in accordance with and as required by the Minnesota Pollution Control Agency's Voluntary Investigation and Cleanup Program. The agreement includes the Environmental Protection Agency's (“EPA”) covenant not to sue the HRA and the Limited Partnership under sections 106 and 107(a) of CERCLA, 42 U.S.C. 9606 and 9607(a); contribution protection for the HRA and the Limited Partnership under Section 113(f)(2), 42 U.S.C. 9613(f)(2); and an agreement by EPA not to file notice of any liens it may have against the Site under section 107(1) of CERCLA, 42 U.S.C. 9607(1) as the result of costs incurred by EPA in connection with a previous response action at the Site. For thirty (30) days following the date of publication of this notice, the United States will receive written comments relating to the agreement. The United States will consider all comments received and may modify or withdraw its consent to the agreement if comments received disclose facts or considerations which indicate that the agreement is inappropriate, improper, or inadequate. The United States' response to any comments received will be available for public inspection at U.S. EPA, Region 5, 77 W. Jackson Boulevard, Chicago, IL 60604. Please contact Diana Embil at (312) 886-7889, to make arrangements to inspect the comments.

DATES: Comments must be submitted on or before August 24, 2001.

ADDRESSES: The proposed settlement is available for public inspection at U.S. EPA, Region 5, 77 W. Jackson Boulevard, Chicago, IL 60604. A copy of the proposed agreement may be obtained from Diana Embil, at U.S. EPA, Region 5, 77 W. Jackson Boulevard (C-14J), Chicago, IL 60604, (312) 886-7889. Comments should reference the Twin City Casting Site prospective purchaser agreement and should be addressed to Diana Embil.

FOR FURTHER INFORMATION CONTACT: Diana Embil at U.S. EPA, Region 5, 77 W. Jackson Boulevard (C-14J), Chicago, IL 60604, (312) 886-7949.

Dated: July 11, 2001.
William E. Muno,
Director, Superfund Division, Region 5.

[FR Doc. 01-18531 Filed 7-24-01; 8:45 am]

BILLING CODE 6560-50-M